ENVIRONMENTAL PROTECTION AGENCY

[CERCLA 02-2020-2013; FRL-10014-16- Region 2]

Proposed CERCLA Cost Recovery Settlement for Operable Unit Two of the Diamond Alkali Superfund Site, In or About Essex and Hudson Counties, New Jersey

AGENCY: Environmental Protection Agency.

ACTION: Notice; request for public comment.

SUMMARY: In accordance with the Comprehensive Environmental Response, Compensation, and Liability Act of 1980, as amended (“CERCLA”), notice is hereby given by the U.S. Environmental Protection Agency (“EPA”), Region 2, of a proposed cost recovery settlement agreement pursuant to CERCLA, between the EPA and six settling parties (“Settling Parties”) regarding Operable Unit Two of the Diamond Alkali Superfund Site (“Site”), located in or about Essex and Hudson Counties, New Jersey. Pursuant to the proposed cost recovery settlement agreement, each Settling Party shall pay to EPA $280,600.00 for each facility listed for the Settling Party in Appendix A of the proposed settlement agreement to resolve the Settling Party's civil liability under CERCLA, related to Operable Unit Two of the Site for the facility.

DATES: Comments must be submitted on or before October 22, 2020.

ADDRESSES: The proposed settlement agreement is available for public inspection at https://semspub.epa.gov/src/document/02/591178.

FOR FURTHER INFORMATION CONTACT:

Juan M. Fajardo, Assistant Regional Counsel, Office of Regional Counsel, U.S. Environmental Protection Agency. Email: fajardo.juan@epa.gov Telephone: 212-637-3132.

SUPPLEMENTARY INFORMATION: The proposed cost recovery settlement agreement is subject to a thirty (30) day public comment period. Following the date of publication of this notice, EPA will receive written comments concerning the proposed cost recovery settlement agreement. Comments to the proposed settlement agreement should reference Operable Unit Two of the Diamond Alkali Superfund Site, Index No. CERCLA-02-2020-2013. EPA will consider all comments received during the 30-day public comment period and may modify or withdraw its consent to the settlement agreement if comments received disclose facts or considerations that indicate that the proposed settlement agreement is inappropriate, improper, or inadequate. EPA's response to comments will be available for public inspection online and/or at EPA's Region 2 offices located at 290 Broadway, New York, NY 10007-1866.

Date: September 14, 2020.
Pasquale Evangelista,
Director, Superfund and Emergency Management Division, U.S. Environmental Protection Agency, Region 2.

[FR Doc. 2020-20811 Filed 9-21-20; 8:45 am]

BILLING CODE 6560-50-P